DEPARTMENT OF AGRICULTURE

Notice of Request for Extension of a Currently Approved Information Collection; USDA Registration Form To Request Electronic Access Code

AGENCY: Office of the Chief Information Officer, USDA.

ACTION: Notice and request for comments.

SUMMARY: In accordance with the Paperwork Reduction Act of 1995 (44 U.S.C. 3506), this notice announces and requests comments on the intention of the Office of the Chief Information Officer (OCIO) to request approval for the continuation of and changes to an information collection necessary to allow USDA customers to securely and confidently share data and receive services electronically. Authority for obtaining information from customers is included in the Freedom to E-File Act (7 U.S.C. 7031-7035), the Electronic Signatures in Global and National Commerce Act (E-SIGN) (15 U.S.C. 7001-7031), and the E-Government Act of 2002 (44 U.S.C. 3601-3606; 3541-3549). Customer information is collected through the USDA eAuthentication Service (eAuth), located at http://www.eauth.egov.usda.gov. The USDA eAuth service provides the public and government businesses with a single sign-on capability for USDA applications, management of user credentials, and verification of identity, authorization, and electronic signatures. USDA's eAuth service obtains customer information through an electronic self registration process provided through the eAuth Web site. This voluntary on-line self registration process enables USDA customers, as well as employees, to obtain accounts as authorized users that will provide single sign-on capability to access USDA Web applications and services via the Internet.

DATES: Comments on this notice must be received by October 16, 2012 to be assured of consideration.

ADDRESSES: Interested persons are invited to submit comments concerning this information collection to Pam Weber, 2150 Centre Avenue, Building A—Suite 205B, Fort Collins, Colorado 80526. Fax comments should be sent to the attention of Pam Weber at fax number (970) 295-5528.

FOR FURTHER INFORMATION CONTACT: Pam Weber by telephone at (970) 295-5130, or via email at pam.weber@ocio.usda.gov.

SUPPLEMENTARY INFORMATION:

Title: USDA Registration Form to Request Electronic Access Code.

OMB Number: 0503-0014.

Expiration Date of Approval: August 31, 2013.

Type of Request: Extension and revision of a currently approved information collection.

Abstract: The USDA OCIO has developed eAuth as a management and technical process that addresses user authentication and authorization prerequisites for providing services electronically. The process requires a one-time electronic self registration to obtain an eAuth account for each USDA customer desiring access to on-line services or applications that require user authentication. USDA customers can self register for a Level 1 or Level 2 Access account. A Level 1 Access account provides users with limited access to USDA Web site portals and applications that have minimal security requirements. A Level 2 Access account enables users to conduct official electronic business transactions via the Internet, enter into a contract with the USDA, and submit forms electronically via the Internet to USDA agencies. Due to the increased customer access associated with a Level 2 Access account, customers must be identity proofed, in addition to completing an electronic self registration. Identity proofing can be accomplished for customers in two ways: (1) By visiting a local registration authority at a USDA Service Center, or (2) through a new on-line identity proofing service. The new on-line identity proofing service will provide registrants with a more efficient mechanism to have their identity proofed. The on-line identity proofing requires responses to at least four randomly selected identity questions that are verified by a third party identity proofing service in an automated interface. Once an account is activated, customers may use the associated user ID and password that they created to access USDA resources that are protected by eAuth.

Estimate of Burden: Public reporting burden for this collection of information is estimated to take eight (8) minutes to complete the self registration process for a Level 1 Access account. A Level 2 Access account registration is estimated to be completed in one hour 40 minutes when travelling to a USDA Service Center to visit a local registration authority (expected to be approximately 30% of the registrants), or 50 minutes when using the on-line identity proofing service (expected to be approximately 70% of the registrants).

Respondents: Individual USDA Customers.

Estimated Number of Respondents: 114,841 Level 1 and 14,860 Level 2 for an estimated total of 129,701 respondents.

Estimated Number of Responses per Respondent: 1.

Estimated Total Annual Burden on Respondents: 31,077 hours.

Comments are invited on (1) Whether the proposed collection of information is necessary for the proper performance of the functions of the agency, including whether the information will have practical utility; (2) the accuracy of the agency's estimate of burden of the proposed collection of information, including the validity of the methodology and assumptions used; (3) ways to enhance the quality, utility, and clarity of the information to be collected; and (4) ways to minimize the burden of the collection of the information on those who respond, through the use of appropriate automated, electronic, mechanical, technological or other forms of information technology collection methods. Copies of the information collection may be obtained from Ms. Weber by calling or emailing your request to the contact information above in the Addresses section. All responses to this notice will be summarized and included in the request for OMB approval. All comments will become a matter of public record.

Cheryl L. Cook,
Chief Information Officer, Office of the Chief Information Officer, USDA.

[FR Doc. 2012-20200 Filed 8-16-12; 8:45 am]

BILLING CODE 3410-KR-P